DEPARTMENT OF HOMELAND SECURITY

U.S. Customs and Border Protection

[OMB Control Number 1651-0140]

Agency Information Collection Activities; Extension; Collection of Advance Information From Certain Undocumented Individuals on the Land Border

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than December 16, 2024) to be assured of consideration.

ADDRESSES: Written comments and/or suggestions regarding the item(s) contained in this notice must include the OMB Control Number 1651-0140 in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Advance Collection of Information from undocumented Individuals on the Land Border.

OMB Number: 1651-0140.

Form Number: N/A.

Current Actions: This submission will extend the expiration date of this information collection, with no change to the burden or information collected.

Type of Review: Extension (without change).

Affected Public: Individuals.

Abstract: Under this collection, CBP collects certain biographic and biometric information from undocumented noncitizens via the CBPOne™ application, prior to their arrival at a Port of Entry (POE), to streamline their processing at the POE. The requested information is that which CBP would otherwise collect from these individuals during primary and/or secondary processing. This information is provided directly by undocumented noncitizens. Providing this information reduces the amount of data entered by CBP Officers (CBPOs) and the corresponding time required to process an undocumented noncitizen at the POE.

The biographic and biometric information being collected in advance, that would otherwise be collected during primary and/or secondary processing at the POEs, includes descriptive information such as: Name, Date of Birth, Country of Birth, City of Birth, Country of Residence, Contact Information, Addresses, Nationality, Employment history (optional), Travel history, Emergency Contact (optional), U.S. and foreign addresses, Familial Information, Marital Status, Identity Document (not a Western Hemisphere Travel Initiative (WHTI) compliant document) (optional), Name and contact information for someone who assisted the user (Optional), Gender, Preferred Language, Height, Weight, Eye color and Photograph.

This collection requires the submission of a live facial photograph for all noncitizens who choose to provide advance information to CBP via CBPOne™. The submission of a live photograph in advance provides CBPOs with a mechanism to match a noncitizen who arrives at the POE with the photograph submitted in advance, therefore identifying those individuals, and verifying their identity as well as conducting advance vetting. The live photograph is particularly important for identity verification if an NGO/IO is not assisting an individual in scheduling their presentation at a POE. In addition, the requirement for a live photo that contains latitude and longitude data points allows CBP to ensure the individual is physically located within the designated geofence areas. Creating designated areas allows an individual to secure an appointment without congregating in potentially dangerous conditions at the U.S. Southwest Border; and only traveling to or through Mexico for the intended purpose of presenting themselves to CBP for inspection.

In addition, CBP allows individuals to request to present themselves for processing at a specific POE on a specific day or days, although such a request does not guarantee that an individual will be processed on a given date or at a given time. Individuals also have the opportunity to modify their requests within the CBPOne™ application to an alternate day or time. The functionality to modify their request to an alternative date and time does not require the collection of new Personal Identification Information (PII) data elements.

Noncitizens who use CBPOne™ are processed in a more streamlined manner at the POE than those who do not use CBPOne™, since their advance information is prepopulated into CBP systems, which reduces manual data entry during processing. Noncitizens who did not submit information through CBPOne™ may need to wait to be processed in a separate line from those who used CBPOne™ (reserved for those who submitted their advance information and scheduled a presentation date).

Based on user and stakeholder feedback, CBPOne™ scheduling occurs through a daily appointment allocation process. Noncitizens submit a daily request in the CBPOne™ application, indicating that they would like an appointment within the next 21 days. Each day at 12:00 p.m. Eastern Time, available appointments are allocated to those who requested an appointment. Individuals who are issued an appointment then have a 23-hour period to complete the scheduling process (until 11:00 a.m. Eastern Time the following day), which includes confirming the appointment time and providing a live facial photograph. By providing a long period of time to complete the scheduling process and confirm the appointment (i.e., 23 hours versus the previous few minutes under a first come, first served scheduling system)), this scheduling feature mitigates certain bandwidth issues that may arise for some users as a result of a large volume of people submitting information during a short window of time. The CBPOne™ application validates the users is within central or northern Mexico, captures a live photo, and matches that photo to the user's registrations photo.

Finally, each day, unconfirmed appointments are reallocated among the current pool of registrations. This process enables noncitizens to request a preferred POE at which to schedule an appointment.

Individuals who use the CBPOne™ application will be able to schedule an appointment to present themselves at the following ports of entry:

• Arizona: Nogales;

• Texas: Brownsville, Hidalgo, Laredo, Eagle Pass, and El Paso (Paso Del Norte); and

• California: Calexico and San Ysidro (Pedestrian West—El Chaparral).

Future and ongoing enhancements to the app are expected based on user and stakeholder feedback to ensure equity in the scheduling process. These enhancements may include expanding appointment slots to additional POEs.

On August 23, 2024, CBP used an emergency revision to this information collection to expand the geofence for Mexican nationals to include all of Mexico and add the Mexican states of Tabasco and Chiapas to the current boundaries for all other nationalities. By adjusting the boundaries, CBP aids the Government of Mexico in its efforts to enforce its immigration laws and regulations and align resources to those areas where migrants are located.

Due to the volume of individuals traveling through Mexico to present at a POE at a designated date and time, CBP has deployed a validation mechanism to assist the Mexican government officials when they encounter an individual or group who claim to have a CBPOne™ appointment. The tool requires the Mexican government official to enter an individual's CBPOne™ confirmation number and date of birth. Once submitted, the tool returns confirmation of any valid CBPOne™ appointment with the appointment date, time, and location, as well as the total number of people in the group.

Type of Information Collection: Advance Information on Undocumented Travelers—Registration.

Estimated Number of Respondents: 500,000.

Estimated Number of Annual Responses per Respondent: 1.

Estimated Number of Total Annual Responses: 500,000.

Estimated Time per Response: 12 minutes.

Estimated Total Annual Burden Hours: 100,000.

Type of Information Collection: Daily Appointment Request.

Estimated Number of Respondents: 500,000.

Estimated Number of Annual Responses per Respondent: 60.

Estimated Number of Total Annual Responses: 30,000,000.

Estimated Time per Response: 1 minute.

Estimated Total Annual Burden Hours: 500,000.

Type of Information Collection: Confirmation of Appointment.

Estimated Number of Respondents: 529,250.

Estimated Number of Annual Responses per Respondent: 1.

Estimated Number of Total Annual Responses: 529,250.

Estimated Time per Response: 3 minutes.

Estimated Total Annual Burden Hours: 26,463.

Seth D. Renkema,
Branch Chief, Economic Impact Analysis Branch, U.S. Customs and Border Protection.

[FR Doc. 2024-23777 Filed 10-11-24; 8:45 am]

BILLING CODE 9111-14-P